DEPARTMENT OF ENERGY

Federal Energy Regulatory Commission

Combined Notice of Filings #1

October 27, 2006.

Take notice that the Commission received the following electric corporate filings:

Docket Numbers: EC07-5-000.

Applicants: WPS Empire State, Inc.; WPS Niagara Generation, LLC; WPS Niagara Generation, LLC.

Description: Joint application of WPS Empire State, Inc., WPS Niagara Generation, LLC and USRG Niagara Biomass, LLC for authorization to transfer facilities under Section 203 of the Federal Power Act.

Filed Date: 10/23/2006.

Accession Number: 20061025-0230.

Comment Date: 5 p.m. Eastern Time on Monday, November 13, 2006.

Docket Numbers: EC07-6-000.

Applicants: Midwest Renewable Energy; Chestnut Capital, LLC; Booner Capital, LLC, Harrington Partners, L.P.; Northern Iowa Windpower II, LLC; Iberdrola USA.

Description: Midwest Renewable Energy Corporation et al submits an application requesting that the Commission authorize the sale of jurisdictional facilities and request for waivers and expedited action.

Filed Date: 10/20/2006.

Accession Number: 20061025-0221.

Comment Date: 5 p.m. Eastern Time on Monday, November 13, 2006.

Take notice that the Commission received the following electric rate filings:

Docket Numbers: ER96-25-028; ER01-1363-006.

Applicants: Coral Power, LLC.; Coral Energy Management, LLC.

Description: Coral Power, LLC et al. submit a Triennial Updated Market Analysis in compliance to the Commission's 10/22/03 order.

Filed Date: 10/23/2006.

Accession Number: 20061025-0224.

Comment Date: 5 p.m. Eastern Time on Monday, November 13, 2006.

Docket Numbers: ER01-313-009; ER01-424-009.

Applicants: California Independent System Operator Corporation; Pacific Gas and Electric Company.

Description: California Independent System Operator Corporation et al. submit Grid Management Charges collected during the period of 1/1/01-12/31/03 pursuant to Commission 11/7/05 order.

Filed Date: 10/23/2006.

Accession Number: 20061025-0225.

Comment Date: 5 p.m. Eastern Time on Monday, November 13, 2006.

Docket Numbers: ER03-500-002.

Applicants: Liberty Power Corp, LLC.

Description: Liberty Power Corp, LLC submits its revised updated market power analysis pursuant to Commission's 2/10/05 Order.

Filed Date: 10/24/2006.

Accession Number: 20061026-0078.

Comment Date: 5 p.m. Eastern Time on Tuesday, November 14, 2006.

Docket Numbers: ER03-765-002.

Applicants: Calpine Oneta Power, LP.

Description: Calpine Oneta Power, LP submits revised Reactive Power Rate Schedule, FERC Rate Schedule 2 pursuant to FERC's 9/26/06 Order.

Filed Date: 10/25/2006.

Accession Number: 20061027-0002.

Comment Date: 5 p.m. Eastern Time on Wednesday, November 15, 2006.

Docket Numbers: ER04-1003-006; ER04-1007-006.

Applicants: American Electric Power Service Corporation.

Description: American Electric Power Service Corp on behalf of the AEP Operating Companies amends its filing and submits a revised Attachment T to its Open Access Transmission Tariff, FERC Electric Tariff, Third Revised Volume 6.

Filed Date: 10/24/2006.

Accession Number: 20061026-0075.

Comment Date: 5 p.m. Eastern Time on Tuesday, November 14, 2006.

Docket Numbers: ER06-20-007.

Applicants: Louisville Gas & Electric Company; Kentucky Utilities Company.

Description: E.ON U.S., LLC on behalf of Louisville Gas, et al. submit a revised Exhibit A to the 10/12/06 filing of the final withdrawal fee calculations and supporting documentation.

Filed Date: 10/25/2006.

Accession Number: 20061026-0143.

Comment Date: 5 p.m. Eastern Time on Wednesday, November 15, 2006.

Docket Numbers: ER06-629-001.

Applicants: California Independent System Operator Corporation.

Description: California Independent System Operator Corp submits amendments to its pro forma Small Generator Interconnection Procedures study agreements for inclusion in the CAISO Tariff pursuant to Order 2006-B.

Filed Date: 10/25/2006.

Accession Number: 20061027-0005.

Comment Date: 5 p.m. Eastern Time on Wednesday, November 15, 2006.

Docket Numbers: ER06-992-002.

Applicants: Otter Tail Power Company.

Description: Otter Tail Power Co. submits an amendment to its 9/5/06 Compliance Filing to more explicitly address one of the directives in the July 5, 2006 Order.

Filed Date: 10/24/2006.

Accession Number: 20061026-0077.

Comment Date: 5 p.m. Eastern Time on Tuesday, November 14, 2006.

Docket Numbers: ER06-1318-001.

Applicants: Southwest Power Pool, Inc.

Description: Southwest Power Pool, Inc. submits a compliance filing providing for revisions to the designation of Service Agreement 1267, an executed Network Integration Transmission Service Agreement.

Filed Date: 10/24/2006.

Accession Number: 20061026-0076.

Comment Date: 5 p.m. Eastern Time on Tuesday, November 14, 2006.

Docket Numbers: ER06-1432-001.

Applicants: Commonwealth Edison Company.

Description: Commonwealth Edison Co. submits additional information, re the Transmission Interconnection Agreement, as an amendment to its 8/30/06 filing.

Filed Date: 10/25/2006.

Accession Number: 20061027-0006.

Comment Date: 5 p.m. Eastern Time on Wednesday, November 15, 2006.

Docket Numbers: ER07-25-001.

Applicants: Southwest Power Pool, Inc.

Description: Southwest Power Pool Inc. submits a revised Letter Agreement designated as First Revised Service Agreement No. 1286, effective 9/11/06.

Filed Date: 10/24/2006.

Accession Number: 20061026-0074.

Comment Date: 5 p.m. Eastern Time on Tuesday, November 14, 2006.

Docket Numbers: ER07-61-000.

Applicants: Southern Company Services, Inc.

Description: Southern Company Services, Inc., acting as agent for Alabama Power Co. et al. submits Revision 2 to the Agreement for Network Integration Transmission Service and Complementary Services with DOE.

Filed Date: 10/24/2006.

Accession Number: 20061026-0109.

Comment Date: 5 p.m. Eastern Time on Tuesday, November 14, 2006.

Docket Numbers: ER07-62-000.

Applicants: Elkem Metals Company—Alloy, LP.

Description: Elkem Metals Company—Alloy, LP. submits a Notice of Cancellation of its Market-Based Rate Tariff, FERC Electric Tariff, First Revised Volume 1.

Filed Date: 10/24/2006.

Accession Number: 20061026-0082.

Comment Date: 5 p.m. Eastern Time on Tuesday, November 14, 2006.

Docket Numbers: ER07-63-000.

Applicants: American Electric Power Service Corp.

Description: American Electric Power Service Corporation as agent for Columbus Southern Power Company submits a Facilities Agreement between the City of Jackson, Ohio, Service Agreement No. 1270.

Filed Date: 10/24/2006.

Accession Number: 20061026-0081.

Comment Date: 5 p.m. Eastern Time on Tuesday, November 14, 2006.

Docket Numbers: ER07-64-000.

Applicants: ALLETE, Inc.

Description: Allette, Inc. submits a distribution wheeling rate for Central MN Ethanol Co-op interconnection to Minnesota Power's distribution facilities.

Filed Date: 10/24/2006.

Accession Number: 20061026-0080.

Comment Date: 5 p.m. Eastern Time on Tuesday, November 14, 2006.

Docket Numbers: ER07-65-000.

Applicants: Southern California Edison Company.

Description: Southern California Edison Co. submits letter agreements between the Transmission and Distribution Business Unit of SCE and the Power Production Department of the Generation Business Unit of SCE.

Filed Date: 10/24/2006.

Accession Number: 20061026-0079.

Comment Date: 5 p.m. Eastern Time on Tuesday, November 14, 2006.

Docket Numbers: ER07-66-000.

Applicants: MATEP, LLC.

Description: MATEP, LLC submits a withdrawal of request for blanket authorization under part 34 of the Commission's regulations.

Filed Date: 10/20/2006.

Accession Number: 20061020-5055.

Comment Date: 5 p.m. Eastern Time on Monday, November 13, 2006.

Docket Numbers: ER07-67-000; ER07-68-000; ER07-69-000; ER07-70-000.

Applicants: Idaho Power Company; Avista Corporation; NorthWestern Corporation; PacifiCorp.

Description: Idaho Power Co. et al. submits a revised rate schedule consisting of an executed version of an Amended and Restated Interconnection Agreement, First Revised Rate Schedule Nos. 44, 59, 27, and 70.

Filed Date: 10/25/2006.

Accession Number: 20061027-0008.

Comment Date: 5 p.m. Eastern Time on Wednesday, November 15, 2006.

Docket Numbers: ER07-71-000.

Applicants: Xcel Energy Services, Inc.

Description: Xcel Energy Services, Inc. on behalf of Northern States Power Co. submits a Transmission Facilities Use Agreement with the City of Glencoe, MN.

Filed Date: 10/25/2006.

Accession Number: 20061027-0007.

Comment Date: 5 p.m. Eastern Time on Wednesday, November 15, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-18529 Filed 11-2-06; 8:45 am]

BILLING CODE 6717-01-P